DEPARTMENT OF COMMERCE

Foreign-Trade Zones Board

[S-43-2018]

Approval of Subzone Status; Manuel Freije Arce, Inc.; Cataño, Puerto Rico

On March 6, 2018, the Executive Secretary of the Foreign-Trade Zones (FTZ) Board docketed an application submitted by the Puerto Rico Trade and Export Company, grantee of FTZ 61, requesting subzone status subject to the existing activation limit of FTZ 61, on behalf of Manuel Freije Arce, Inc., in Cataño, Puerto Rico.

The application was processed in accordance with the FTZ Act and Regulations, including notice in the Federal Register inviting public comment (83 FR 10658, March 12, 2018). The FTZ staff examiner reviewed the application and determined that it meets the criteria for approval.

Pursuant to the authority delegated to the FTZ Board's Executive Secretary (15 CFR Sec. 400.36(f)), the application to establish Subzone 61U was approved on May 9, 2018, subject to the FTZ Act and the Board's regulations, including Section 400.13, and further subject to FTZ 61's 1,821.07-acre activation limit.

Dated: May 9, 2018.
Andrew McGilvray,
Executive Secretary.

[FR Doc. 2018-10203 Filed 5-11-18; 8:45 am]

BILLING CODE 3510-DS-P